DEPARTMENT OF COMMERCE

Patent and Trademark Office

Agency Information Collection Activities; Submission to the Office of Management and Budget (OMB) for Review and Approval; Comment Request; Patent and Trademark Resource Center Metrics

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on December 17, 2020 during a 60-day comment period. This notice allows for an additional 30 days for public comments.

Agency: United States Patent and Trademark Office, Department of Commerce.

Title: Patent and Trademark Resource Center Metrics.

OMB Control Number: 0651-0068.

Form Number: None.

Type of Review: Extension and revision of a currently approved information collection.

Number of Respondents: 90 respondents per year.

Average Hour per Response: The USPTO estimates that it will take the public approximately 30 minutes (0.50 hours) to complete a response, depending on the complexity of the particular item. This includes the time to gather the necessary information, create the documents, and submit the completed request to the USPTO.

Estimated Total Annual Respondent Burden Hours: 180 hours.

Estimated Total Annual Non-Hour Cost Burden: $0.

Needs and Uses: The participating Patent and Trademark Resource Centers (PTRCs) uses this information collection to provide metrics pertaining to the use of patent and trademark services by the public, as well as the public outreach efforts of their libraries.

Affected Public: Private Sector; State, Local, or Tribal Government.

Frequency: On occasion.

Respondent's Obligation: Required to Obtain or Retain Benefits.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0068.

Further information can be obtained by:

• Email: InformationCollection@uspto.gov. Include “0651-0068 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2021-03847 Filed 2-24-21; 8:45 am]

BILLING CODE 3510-16-P